DEPARTMENT OF ENERGY

Federal Energy Regulatory Commission

Notice of Intent To File an Application for a New License

May 15, 2001.

a. Type of Filing: Notice of Intent to File An Application for a New License.

b. Project No.: 2738.

c. Date Filed: April 2, 2001.

d. Submitted By: New York State Electric & Gas Corporation—current licensee.

e. Name of Project: Saranac River Hydroelectric Project.

f. Location: On the Saranac River near the City of Plattsburgh, in Clinton County, New York. The project does not occupy federal lands.

g. Filed Pursuant to: Section 15 of the Federal Power Act.

h. Licensee Contact: Carol Howland, New York State Electric & Gas Corporation, Corporate Drive, Kirkwood Industrial Park, P.O. Box 5224, Binghamton, NY 13902, cahowland@nyseg.com, (607) 762-8881.

i. FERC Contact: John Hannula, john.hannula@ferc.fed.us, (202) 219-0116.

j. Effective date of current license: April 13, 1956.

k. Expiration date of current license: April 12, 2006.

l. Description of the Project: The project consists of the following four developments:

The High Falls Development consists of the following existing facilities: (1) A 63-foot-high, 274-foot-wide gravity dam topped with 5-foot-high flashboards comprised of: (i) A spillway, (ii) a 110-foot-long eastern wingwall, and (iii) a 320-foot-long western wingwall; (2) a 2,670-acre-foot storage reservoir with a maximum pool elevation of 1,036.5 feet msl; (3) an 800-foot-long, 250-foot-wide forebay canal; (4) a 10-foot-diameter, 1,280-foot-long penstock; (5) an 11-foot by 12-foot, 3,581-foot-long tunnel; (6) a 6-foot-diameter, 150-foot-long trifurcated penstock; (7) a 30-foot-diameter, 76-foot-high surge tank; (8) a powerhouse containing three generating unit with a total installed capacity of 15.0 MW, (9) a 50-foot-long, 6.9-kV underground transmission line; and (10) other appurtenances.

The Cadyville Development consists of the following existing facilities: (1) A 50-foot-high, 237-foot-wide gravity dam with a spillway topped with 2.7-foot-high flashboards; (2) a 3,625-acre-foot storage reservoir with a maximum pool elevation of 729.3 feet msl; (3) a 58-foot-long, 20-foot-wide intake structure; (4) a 10-foot-diameter, 1,554-foot-long penstock; (5) a powerhouse containing three generating unit with a total installed capacity of 5.5 MW, (6) a 110-foot-long, 6.6-kV underground transmission line; and (7) other appurtenances.

The Mill C development consists of the following existing facilities: (1) A 43-foot-high, 202-foot-wide gravity dam with a spillway topped with 2.0-foot-high flashboards; (2) a 40.3-acre-foot storage reservoir with a maximum pool elevation of 651.9 feet msl; (3) a 37-foot-long, 16-foot-wide intake structure; (4) a 10-foot-diameter to 11.5-foot-diameter, 494-foot-long penstock; (5) a 10-foot-diameter to 11.17-foot-diameter, 84-foot-long penstock; (6) two powerhouses containing three generating unit with a total installed capacity of 6.05 MW, (7) a 700-foot-long, 6.6-kV partially underground transmission line; and (8) other appurtenances.

The Kent Falls Development consists of the following existing facilities: (1) A 59-foot-high, 172-foot-wide gravity dam with a spillway topped with 3.5-foot-high flashboards; (2) a 265-acre-foot storage reservoir with a maximum pool elevation of 584.8 feet msl; (3) a 29-foot-long, 22-foot-wide intake structure; (4) an 11-foot-diameter, 2,668-foot-long penstock; (5) a 28-foot-diameter, 32.5-foot-high surge tank; (6) a powerhouse containing three generating unit with a total installed capacity of 12.4 MW, (7) a 390-foot-long, 6.6-kV partially underground transmission line; and (8) other appurtenances.

m. Each application for a new license and any competing license applications must be filed with the Commission at least 24 months prior to the expiration of the existing license. All applications for license for this project must be filed by April 12, 2004.

David P. Boergers,
Secretary.

[FR Doc. 01-12649 Filed 5-18-01; 8:45 am]

BILLING CODE 6717-01-M